SOCIAL SECURITY ADMINISTRATION

20 CFR Parts 404 and 416

[Docket No. SSA-2009-0040]

RIN 0960-AF80

Revised Procedures and Criteria for Payment of Vocational Rehabilitation Services Under the Cost Reimbursement Program

AGENCY: Social Security Administration.

ACTION: Advance notice of proposed rulemaking.

SUMMARY: We are requesting your comments on whether and how we should revise our rules governing payment for vocational rehabilitation (VR) services under the cost reimbursement program. Our current regulations do not reflect programmatic changes resulting from the new regulations we issued in May of 2008 for the Ticket to Work and Self-Sufficiency Program (Ticket to Work program). We are requesting your comments as part of our ongoing effort to ensure that the regulations governing cost reimbursement for VR services are current and support our other return to work programs, specifically the Ticket to Work and Work Incentive programs. If we propose specific revisions, we will publish a Notice of Proposed Rulemaking in the Federal Register.

DATES: To ensure that we consider your comments, we must receive them no later than February 12, 2010.

ADDRESSES: You may submit comments by any one of three methods—Internet, fax, or mail. Do not submit the same comments multiple times or by more than one method. Regardless of which method you choose, please state that your comments refer to Docket No. SSA-2009-0040 so that we may associate your comments with the correct regulation.

Caution: You should be careful to include in your comments only information that you wish to make publicly available. We strongly urge you not to include in your comments any personal information, such as Social Security numbers or medical information.

1. Internet: We strongly recommend this method for submitting your comments. Visit the Federal eRulemaking portal at http://www.regulations.gov. Use the Search function of the webpage to find docket number SSA-2009-0040, then submit your comment. Once you submit your comment, the system will issue you a tracking number to confirm your submission. You will not be able to view your comment immediately as we must manually post each comment. It may take up to a week for your comment to be viewable.

2. Fax: Fax comments to (410) 966-2830.

3. Mail: Mail your comments to the Office of Regulations, Social Security Administration, 137 Altmeyer Building, 6401 Security Boulevard, Baltimore, Maryland 21235-6401.

Comments are available for public viewing on the Federal eRulemaking portal at http://www.regulations.gov or in person, during regular business hours, by arranging with the contact person identified below.

FOR FURTHER INFORMATION CONTACT: Brian Rudick, Office of Regulations, Social Security Administration, 6401 Security Boulevard, Baltimore, MD 21235-6401, (410) 965-7105. For information on eligibility or filing for benefits, call our national toll-free number, 1-800-772-1213 or TTY 1-800-325-0778, or visit our Internet site, Social Security Online, at http://www.socialsecurity.gov.

SUPPLEMENTARY INFORMATION:

Electronic Version

The electronic file of this document is available on the date of publication in the Federal Register at http://www.gpoaccess.gov/fr/index.html.

What Is The Purpose of This Advance Notice of Proposed Rulemaking (ANPRM)?

This ANPRM gives you an opportunity to provide input concerning whether and how we might revise our procedures and criteria for payments to State VR agencies for VR services provided to disability beneficiaries under the cost reimbursement system. The regulations governing State VR agency cost reimbursement are found in 20 CFR part 404, subpart V, and part 416, subpart V. We last published rules for this program in the Federal Register on July 7, 2003. We are publishing this ANPRM as part of our ongoing effort to ensure that our criteria are effective and provide accurate guidance regarding the connection between the VR cost reimbursement and Ticket to Work programs.

On Which Rules Are We Inviting Comments?

We are interested in any comments and suggestions you have about how we should revise 20 CFR part 404, subpart V, and part 416, subpart V. You can find the current rules for the cost reimbursement program on the Internet at the following locations:

http://www.access.gpo.gov/nara/cfr/waisidx_09/20cfr404_09.html

http://www.access.gpo.gov/nara/cfr/waisidx_09/20cfr416_09.html.

Who Should Send Us Comments and Suggestions?

We invite comments and suggestions from people who have an interest in the rules we use to administer the VR cost reimbursement program, people who apply for or receive benefits from us, members of the general public, State VR agencies, advocates and organizations who represent parties interested in cost reimbursement and the Ticket to Work programs, and others.

What Should You Comment About?

We issued initial Ticket to Work program regulations on December 23, 2001 (66 FR 67369). On May 20, 2008, we published amendments to those rules based on our experience administering the Ticket to Work program (73 FR 29324). While those rules simplified the program and made it more attractive to beneficiaries and potential service providers, we have not yet fully updated the regulations governing the VR cost reimbursement program to complement the Ticket to Work program.

In advance of proposing regulatory changes to the VR cost reimbursement program, we would like your general comments, as well as comments on a few specific issues. These specific issues include:

1. What changes to the VR cost reimbursement regulations might we consider to make them work more effectively with the Ticket to Work program?

2. Is the list of services for which payment may be made, found at 20 CFR 404.2114 and 416.2214, adequate and comprehensive? If not, what changes to the list of allowable services should we consider?

3. Under the Ticket to Work program, our rules discount payments to an EN when it accepts a ticket assignment for job retention services for a beneficiary who is a former VR agency client and was working when the VR agency closed the VR case. 20 CFR 411.585. Our reimbursement rules do not cover the reverse situation: when the EN is the first provider and the VR agency later provides job retention or career advancement services. How should we avoid duplicate payments for the same services while ensuring that individuals get the services they need to maximize opportunities for employment?

4. Benefits planners (including those with the Work Incentives Planning and Assistance organizations) provide information to beneficiaries with disabilities regarding the effect of earnings on many types of benefits. We would appreciate your comments about how benefits planning can become a more central part of a beneficiary's participation in the VR process.

Will We Respond to Your Comments From This Notice?

We will not respond directly to comments you send in response to this ANPRM. After we have considered all comments and suggestions as well as what we have learned from our program experience administering the cost reimbursement option under the Ticket to Work program, we will determine whether and how we should revise our regulations. If we decide to propose specific revisions, we will publish a Notice of Proposed Rulemaking in the Federal Register, and you will have a chance to comment on the revisions we propose.

List of Subjects

20 CFR Part 404

Administrative practice and procedure, Blind, Disability benefits, Old-age, Survivors, and Disability insurance, Reporting and recordkeeping requirements, Social Security, Vocational rehabilitation.

20 CFR Part 416

Administrative practice and procedure, Aged, Blind, Disability benefits, Public assistance programs, Reporting and recordkeeping requirements, Supplemental Security Income (SSI), Vocational rehabilitation.

Dated: November 9, 2009.
Michael J. Astrue,
Commissioner of Social Security.

[FR Doc. E9-29669 Filed 12-11-09; 8:45 am]

BILLING CODE 4191-02-P